Proclamation 7958 of November 3, 2005

National Alzheimer's Disease Awareness Month, 2005

By the President of the United States of America

A Proclamation

National Alzheimer's Disease Awareness Month is an opportunity to recognize the strength of family members, doctors, nurses, volunteers, and others who provide care for those living with this devastating disease. During this month, we also reaffirm our commitment to victims of this disease. We hope to enhance the quality of life for Alzheimer's patients and improve prevention and treatment.

Approximately 4.5 million Americans are affected by Alzheimer's disease. The disease gradually destroys parts of the brain that control memory, learning, communication, and reason. As it progresses, individuals may also experience changes in behavior and personality, leading to severely impaired cognitive abilities and the need for full-time care and assistance. Age remains the greatest risk factor—the National Institute on Aging estimates that the percentage of people who develop Alzheimer's disease doubles for each 5-year age group beyond 65. Alzheimer's affects nearly half of those over 85.

While there is no known cure or certain treatment, researchers are learning more about what causes this tragic disease and how to control its symptoms. My Administration remains committed to funding medical research programs to help prevent, treat, and find a cure for Alzheimer's disease. The National Institute on Aging has begun new initiatives to improve development and testing of medicines that may slow progression of the disease. The Department of Veterans Affairs is supporting research through its Geriatric Research, Education and Clinical Centers, and the Administration on Aging is working to improve home and community-based services for Alzheimer's patients. By working together, we can learn more about treatment options and bring greater comfort to those afflicted with this disease.

Our Nation is grateful for the scientists, researchers, and health care professionals who are dedicated to treating Alzheimer's patients and finding a cure. We are also grateful for the hard work and compassionate spirit of family members and caregivers. Their efforts reflect the character and spirit of America.

NOW, THEREFORE, I, GEORGE W. BUSH, President of the United States of America, by virtue of the authority vested in me by the Constitution and laws of the United States, do hereby proclaim November 2005 as National Alzheimer's Disease Awareness Month. I call upon all Americans to observe this month with appropriate programs and activities.

IN WITNESS WHEREOF, I have hereunto set my hand this third day of November, in the year of our Lord two thousand five, and of the Independence of the United States of America the two hundred and thirtieth.

B

[FR Doc. 05-22298

Filed 11-4-05; 9:20 am]

Billing code 3195-01-P